NUCLEAR REGULATORY COMMISSION

[Docket Nos. 50-266 and 50-301; NRC-2020-0277]

NextEra Energy Point Beach, LLC; Point Beach Nuclear Plant, Units 1 and 2; Notice of Intent To Prepare Supplement to the Supplemental Environmental Impact Statement; Correction

AGENCY: Nuclear Regulatory Commission.

ACTION: Notice; correction.

SUMMARY: The U.S. Nuclear Regulatory Commission (NRC) is correcting a notice that was published in the Federal Register on October 2, 2024, regarding NextEra Energy Point Beach, LLC; Point Beach Nuclear Plant, Units 1 and 2; Notice of Intent to Prepare Supplement to the Supplemental Environmental Impact Statement. This action is necessary to correct licensee docket numbers.

DATES: The correction takes effect on October 24, 2024.

ADDRESSES: Please refer to Docket ID NRC-2020-0277 when contacting the NRC about the availability of information regarding this document. You may obtain publicly available information related to this document using any of the following methods:

• Federal Rulemaking website: Go to https://www.regulations.gov and search for Docket ID NRC-2020-0277. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Kevin Folk, telephone: 301-415-6944; email: Kevin.Folk@nrc.gov; or Karen Loomis, telephone: 301-415-5142; email: Karen.Loomis@nrc.gov. Both are staff in the Office of Nuclear Material Safety and Safeguards at the U.S. Nuclear Regulatory Commission, Washington, DC 20555-0001.

SUPPLEMENTARY INFORMATION: In the Federal Register (FR) on October 2, 2024, in FR Doc. 2024-22710, on page 80269, within the FR notice heading, correct “Docket Nos. 50-237 and 50-249; NRC-2020-0277” to read “Docket Nos. 50-266 and 50-301; NRC-2020-0277.”

Dated: October 21, 2024.
For the Nuclear Regulatory Commission.
Stephen Koenick,
Chief, Environmental Project Management, Branch 1, Division of Rulemaking, Environmental, and Financial Support, Office of Nuclear Material Safety, and Safeguards.

[FR Doc. 2024-24736 Filed 10-23-24; 8:45 am]

BILLING CODE 7590-01-P